DEPARTMENT OF THE INTERIOR

National Park Service

Notice of Inventory Completion: Hastings Museum of Natural and Cultural History, Hastings, NE

AGENCY: National Park Service, Interior.

ACTION: Notice.

Notice is here given in accordance with the Native American Graves Protection and Repatriation Act (NAGPRA), 25 U.S.C. 3003, of the completion of an inventory of human remains in the possession of the Hastings Museum of Natural and Cultural History (Hastings Museum), Hastings, NE. The human remains were removed from Calico Rock, Izard County, AR.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Hastings Museum professional staff in consultation with representatives of the Osage Nation, Oklahoma (formerly the Osage Tribe).

On an unknown date, human remains representing a minimum of two individuals were removed from Calico Rock in Izard County, AR. No additional site information is available. The human remains were purchased by the Hastings Museum from H.L. Talbert and accessioned into the collection in 1941 (20276, 20277). No known individuals were identified. No associated funerary objects are present.

Information provided from the Arkansas Archeological Survey indicates that there are two known sites in Izard County by the name of Calico Rock. One site is an archaic site while the other is undetermined. Neither site yielded human remains, but the sites were identified after the human remains were donated to the Hastings Museum. However, the history of the town named Calico Rock, also located in Izard County, stated that a flood in 1927 unearthed an American Indian burial ground near the town site. It is likely that the human remains in the Hastings Museum collection are not from the known sites, but rather from the area of the town of Calico Rock. The human remains have been determined to be those of Native American descent. In addition, a morphological report provided on the human remains determined that the dental attrition was not consistent with an individual from the archaic time period making the likelihood of them coming from the area of the town more likely.

The Osage were seminomadic people who lived and hunted in Southwestern Missouri, northwestern Arkansas, southeast Kansas, and northeast Oklahoma. Izard County is located in Osage treaty land, which was determined in 1825.

Officials of the Hastings Museum have determined that, pursuant to 25 U.S.C. 3001 (9-10), the human remains described above represent the physical remains of two individuals of Native American ancestry. Officials of the Hastings Museum have determined that, pursuant to 25 U.S.C. 3001 (2), there is a relationship of shared group identity that can be reasonably traced between the Native American human remains and the Osage Nation, Oklahoma.

Representatives of any other Indian tribe that believes itself to be culturally affiliated with the human remains should contact Teresa Kreutzer-Hodson, Hastings Museum of Natural and Cultural History, PO Box 1286, Hastings, NE 68902, telephone (402) 461-2399, before September 12, 2008. Repatriation of the human remains to the Osage Nation, Oklahoma may proceed after that date if no additional claimants come forward.

The Hastings Museum is responsible for notifying the Osage Nation, Oklahoma that this notice has been published.

Dated: July 22, 2008
Sherry Hutt,
Manager, National NAGPRA Program.

[FR Doc. E8-18695 Filed 8-12-08; 8:45 am]

BILLING CODE 4312-50-S